POSTAL SERVICE BOARD OF GOVERNORS

Sunshine Act Meeting

Times and Dates: 1 p.m., Monday, October 7, 2002; 8:30 a.m., Tuesday, October 8, 2002.

Place: Memphis, Tennessee, at the Peabody Hotel, 149 Union Avenue, in the Continental Ballroom.

Status: October 7—1 p.m. (Closed); October 8—8:30 a.m. (Open).

Matter to be Considered:

Monday, October 7—1 p.m. (Closed)

1. Financial Performance.

2. Biohazard Detection System.

3. Strategic Planning.

4. Personnel Matters and Compensation Issues.

Tuesday, October 8—8:30 a.m. (Open)

1. Minutes of the Previous Meeting, September 5-6, 2002.

2. Remarks of the Postmaster General and CEO.

3. Board of Governors Calendar Year 2003 Meeting Schedule.

4. Office of the Governors Fiscal Year 2003 Budget.

5. Report on the FedEx Network.

6. Report on the Tennessee District.

7. Tentative Agenda for the November 4-5, 2002, meeting in Washington, DC

FOR FURTHER INFORMATION CONTACT: William T. Johnstone, Secretary of the Board, U.S. Postal Service 475 L'Enfant Plaza, SW., Washington, DC 20260-1000. Telephone (202) 268-4800.

William T. Johnstone,
Secretary.

[FR Doc. 02-24956 Filed 9-26-02; 3:30 pm]

BILLING CODE 7710-12-M